DEPARTMENT OF TRANSPORTATION

Federal Aviation Administration

14 CFR Part 39

[Docket No. FAA-2009-0386; Directorate Identifier 2008-NM-184-AD; Amendment 39-16002; AD 2009-18-06]

RIN 2120-AA64

Airworthiness Directives; Construcciones Aeronauticas, S.A. (CASA), Model CN-235, CN-235-100, CN-235-200, and CN-235-300 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

During operation in icing conditions, an asymmetric configuration of the de-icing boots was detected, occurring during the inflation and deflation check of the de-icing system. This was found to be due to an unexpected failure mode in the pneumatic and de-icing system's control electronic logic. This condition, if not corrected, could affect the de-icing capabilities of the boots installed on the wing and horizontal stabilizers, potentially leading to loss of control of the aircraft.

* * * * *

We are issuing this AD to require actions to correct the unsafe condition on these products.

DATES: This AD becomes effective October 1, 2009.

The Director of the Federal Register approved the incorporation by reference of certain publications listed in this AD as of October 1, 2009.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Shahram Daneshmandi, Aerospace Engineer, International Branch, ANM-116, Transport Airplane Directorate, FAA, 1601 Lind Avenue, SW., Renton, Washington 98057-3356; telephone (425) 227-1112; fax (425) 227-1149.

SUPPLEMENTARY INFORMATION:

Discussion

We issued a notice of proposed rulemaking (NPRM) to amend 14 CFR part 39 to include an AD that would apply to the specified products. That NPRM was published in the Federal Register on April 29, 2009 (74 FR 19460). That NPRM proposed to correct an unsafe condition for the specified products. The MCAI states:

During operation in icing conditions, an asymmetric configuration of the de-icing boots was detected, occurring during the inflation and deflation check of the de-icing system. This was found to be due to an unexpected failure mode in the pneumatic and de-icing system's control electronic logic. This condition, if not corrected, could affect the de-icing capabilities of the boots installed on the wing and horizontal stabilizers, potentially leading to loss of control of the aircraft.

To address and correct this unsafe condition, EADS-CASA developed modification 31558, approved by DGAC-Spain and incorporated into the Type Design Definition through the approval of CN-235-300 version AE02, revision 14 of Spanish Type Certificate DGAC 01/86, dated 22 March 2002, and modification 31607, Minor Change approved by EADS-CASA under their DOA 21J.032 privileges, complementary to modification 31558. The entire modification package consists of an improvement of the de-icing boots electronic control system, making it capable of detecting all possible boot configurations on wings and horizontal stabilizers without affecting pneumatic system functions. The instructions for the in-service accomplishment of this modification have been published as CN-235 Service Bulletin (SB) 235-30-16 dated 21 January 2005.

For the reasons described above, this EASA AD requires the modification of the De-Icing Boots control system in all aircraft that have not yet implemented the modification.

You may obtain further information by examining the MCAI in the AD docket.

Comments

We gave the public the opportunity to participate in developing this AD. We received no comments on the NPRM or on the determination of the cost to the public.

Change to Parts Cost

We have revised the parts cost to reflect the price of two kits from the manufacturer. The revised cost is less than the original cost presented in the NPRM.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 8 products of U.S. registry. We also estimate that it will take about 65 work-hours per product to comply with the basic requirements of this AD. The average labor rate is $80 per work-hour. Required parts will cost about $7,383 per product. Where the service information lists required parts costs that are covered under warranty, we have assumed that there will be no charge for these parts. As we do not control warranty coverage for affected parties, some parties may incur costs higher than estimated here. Based on these figures, we estimate the cost of this AD to the U.S. operators to be $100,664, or $12,583 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-18-06 Construcciones Aeronauticas, S.A. (CASA): Amendment 39-16002. Docket No. FAA-2009-0386; Directorate Identifier 2008-NM-184-AD.

Effective Date

(a) This airworthiness directive (AD) becomes effective October 1, 2009.

Affected ADs

(b) None.

Applicability

(c) This AD applies to CASA Model CN-235, CN-235-100, CN-235-200, and CN-235-300 airplanes, certificated in any category, all serial numbers up to, but not including, C-139.

Subject

(d) Air Transport Association (ATA) of America Code 30: Ice and rain protection.

Reason

(e) The mandatory continuing airworthiness information (MCAI) states:

During operation in icing conditions, an asymmetric configuration of the de-icing boots was detected, occurring during the inflation and deflation check of the de-icing system. This was found to be due to an unexpected failure mode in the pneumatic and de-icing system's control electronic logic. This condition, if not corrected, could affect the de-icing capabilities of the boots installed on the wing and horizontal stabilizers, potentially leading to loss of control of the aircraft.

To address and correct this unsafe condition, EADS-CASA developed modification 31558, approved by DGAC-Spain and incorporated into the Type Design Definition through the approval of CN-235-300 version AE02, revision 14 of Spanish Type Certificate DGAC 01/86, dated 22 March 2002, and modification 31607, Minor Change approved by EADS-CASA under their DOA 21J.032 privileges, complementary to modification 31558. The entire modification package consists of an improvement of the de-icing boots electronic control system, making it capable of detecting all possible boot configurations on wings and horizontal stabilizers without affecting pneumatic system functions. The instructions for the in-service accomplishment of this modification have been published as CN-235 Service Bulletin (SB) 235-30-16 dated 21 January 2005.

For the reasons described above, this EASA AD requires the modification of the De-Icing Boots control system in all aircraft that have not yet implemented the modification.

Actions and Compliance

(f) Unless already done, within six months after the effective date of this AD: Modify the aircraft de-icing boots control system in accordance with the Accomplishment Instructions of European Aeronautic Defense and Space Company (EADS) CASA Service Bulletin SB-235-30-16, dated January 21, 2005.

FAA AD Differences

Note 1: This AD differs from the MCAI and/or service information as follows: No differences.

Other FAA AD Provisions

(g) The following provisions also apply to this AD:

(1) Alternative Methods of Compliance (AMOCs): The Manager, International Branch, FAA, has the authority to approve AMOCs for this AD, if requested using the procedures found in 14 CFR 39.19. Send information to ATTN: Shahram Daneshmandi, Aerospace Engineer, International Branch, ANM-116, Transport Airplane Directorate, FAA, 1601 Lind Avenue, SW., Renton, Washington 98057-3356; telephone (425) 227-1112; fax (425) 227-1149. Before using any approved AMOC on any airplane to which the AMOC applies, notify your principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency (EASA) Airworthiness Directive 2008-0118, dated June 27, 2008; and EADS CASA Service Bulletin SB-235-30-16, dated January 21, 2005; for related information.

Material Incorporated by Reference

(i) You must use EADS CASA Service Bulletin SB-235-30-16, dated January 21, 2005, to do the actions required by this AD, unless the AD specifies otherwise.

(1) The Director of the Federal Register approved the incorporation by reference of this service information under 5 U.S.C. 552(a) and 1 CFR part 51.

(2) For service information identified in this AD, contact EADS-CASA, Military Transport Aircraft Division (MTAD), Integrated Customer Services (ICS), Technical Services, Avenida de Aragón 404, 28022 Madrid, Spain; telephone +34 91 585 55 84; fax +34 91 585 55 05; e-mail MTA.TechnicalService@casa.eads.net; Internet http://www.eads.net.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on August 17, 2009.
Ali Bahrami,
Manager, Transport Airplane Directorate, Aircraft Certification Service.

[FR Doc. E9-20581 Filed 8-26-09; 8:45 am]

BILLING CODE 4910-13-P